ENVIRONMENTAL PROTECTION AGENCY

[OEI-2005-2006; FRL-7951-5]

Office of Environmental Information; Announcement of Comment Period for Environmental Sampling, Analysis and Results Draft Data Standards

AGENCY: Environmental Protection Agency.

ACTION: Notice of Data Availability & Comment Period.

SUMMARY: Notice of availability for public review for a 90 day comment period is hereby given for the Draft Environmental Sampling, Analysis and Results (ESAR) Data Standards.

The Draft Environmental Sampling, Analysis, and Results Data Standards are a collection of 14 standards that are based on the business processes used to collect and analyze environmental data. The collection is comprised of an Overview, four primary standards and nine supporting components. The fourteen ESAR data standards are designed to provide implementation flexibility and improve the exchange of environmental data across the nation. States and U.S. EPA completed a technical review of these data standards in the Spring of 2004. That review lead to the formation of Air, Waste, and Water teams, which reviewed the comments and produced this final collection of draft data standard documents. Reviewers will see that the standards may not use the specific terminology for a given environmental program. In order to make the standards work for the broadest audience, terms were specifically chosen for relevance to the broadest audience. Similarly, the standards do not address all details of each environmental program. These standards, when final, are intended to serve as a foundation for information exchange across environmental media (water, air, waste). Media or program specific data elements may need to be added in an exchange.

Reviewers please note that the draft data standards are based on and incorporate related efforts such as other data standards, electronic data deliverables, and systems data dictionaries in media specific areas including: the EDSC data standard “Reporting Water Quality Results for Chemical and Microbiological Analytes;” exchange specifications such as the “Staged Electronic Data Deliverable” (SEDD); data dictionaries such as the Air Quality Monitoring System (AQS); as well as specifications from the National Environmental Laboratory Accrediting Council (NELAC) and the Laboratory Information Management System (LIMS).

DATES: Comments must be submitted on or before November 12, 2005.

FOR FURTHER INFORMATION CONTACT: Linda Spencer; Environmental Protection Agency; 1200 Pennsylvania Avenue, MC 2822T; Washington, DC 20460; Phone: 202-566-1651; Fax: 202-566-1624; E-mail: Spencer.linda@epa.gov.

SUPPLEMENTARY INFORMATION: These standards were developed by the Environmental Data Standards Council (EDSC). The EDSC is a partnership of among EPA, States, and Tribes which promotes the efficient sharing of environmental information through the cooperative development of data standards.

The standards are intended for use in environmental data exchanges among States, Tribal entities and the U.S. EPA. They are not meant to dictate or to limit data an agency chooses to collect for its own internal purposes. Adoption of a data standard should not be interpreted to mean that revisions to databases or information systems are required. What the adoption does mean is that formats for sharing data with Exchange Network (EN) partners will change because the Exchange Network has adopted Shared Schema Components based on the data standards. The SSCs are available on the Exchange Network Web site at http://www.exchangenetwork.net.

The draft data standards and “Frequently Asked Questions” document can be found on EDSC's Web site http://www.envdatastandards.net/ and are available through the Docket system as indicated below.

I. General Information

A. How Can I Get Copies Of These Documents and Other Related Information?

1. Docket. EPA has established an official public docket for this action under Docket ID No. OEI-2005-2006. The official public docket is the collection of materials that is available for public viewing at the OEI Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

2. Electronic Access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B. Once in the system, select “search,” then key in the appropriate docket identification number.

Dated: August 9, 2005.
Oscar Morales,
Division Director, Collection Strategies Division, Office of Information Collection, U.S. Environmental Protection Agency.

[FR Doc. 05-16113 Filed 8-16-05; 8:45 am]

BILLING CODE 6560-50-U